DEPARTMENT OF THE INTERIOR

Bureau of Land Management

[LLIDT000000.L11200000.DD0000.241A.00; 4500069133]

Notice of Public Meeting, Twin Falls District Resource Advisory Council, Idaho

AGENCY: Bureau of Land Management, Interior.

ACTION: Notice of public meetings.

SUMMARY: In accordance with the Federal Land Policy and Management Act (FLPMA) and the Federal Advisory Committee Act of 1972 (FACA), the U.S. Department of the Interior, Bureau of Land Management (BLM) Twin Falls District Resource Advisory Council (RAC) will meet as indicated below.

DATES: The Twin Falls District RAC will meet on September 27, 2017.

ADDRESSES: The Twin Falls District RAC will meet at the BLM Twin Falls District Office, 2878 Addison Ave. E., Twin Falls, ID 83301.

FOR FURTHER INFORMATION CONTACT: Heather Tiel-Nelson, Twin Falls District Office, Idaho, 2878 Addison Ave. E., Twin Falls, ID 83301, 208-736-2352, email at hnelson@blm.gov. Persons who use a telecommunications device for the deaf (TDD) may contact Ms. Tiel-Nelson by calling the Federal Relay Service (FRS) at 800-877-8339. The FRS is available 24 hours a day, 7 days a week, to leave a message or question for Ms. Tiel-Nelson. You will receive a reply during normal business hours.

SUPPLEMENTARY INFORMATION: The 15-member RAC advises the Secretary of the Interior, through the Bureau of Land Management, on a variety of planning and management issues associated with public land management in Idaho. During the September 27 meeting, the RAC will convene at 9:00 a.m. and will receive an overview of the 2017 fire season, learn about the potential for Unmanned Aircraft Systems use for resource management, discuss travel management planning taking place around the Twin Falls District, and receive an update on the Cedar Fields Environmental Impact Statement. Additional topics may be added and will be included in local media announcements as well as online at https://www.blm.gov/get-involved/resource-advisory-council/near-you/Idaho/twin-falls-district-RAC.

RAC meetings are open to the public. The public may present written comments to the Council at the address provided above. Each formal Council meeting will also have time allocated for hearing public comments. The public comment period will take place from 1:30-2:00 p.m. Depending on the number of persons wishing to comment and time available, the time for individual oral comments may be limited.

Before including your address, phone number, email address, or other personal identifying information in your comments, please be aware that your entire comment, including your personal identifying information, may be made publicly available at any time. While you can ask us in your comment to withhold your personal identifying information from public review, we cannot guarantee that we will be able to do so. Individuals who plan to attend and need special assistance, such as sign language interpretation, tour transportation or other reasonable accommodations, should contact the BLM as provided above.

Authority: 43 CFR 1784.4-2.

Michael C. Courtney,
Twin Falls District Manager.

[FR Doc. 2017-18700 Filed 9-1-17; 8:45 am]

BILLING CODE 4310-GG-P